OVERSEAS PRIVATE INVESTMENT CORPORATION

Sundhine Act Cancellation Notice—OPIC's March 9, 2016 Annual Public Hearing

OPIC's Sunshine Act notice of its Annual Public Hearing was published in the Federal Register (Volume 81, Number 7, Pages 1449-1450) on January 12, 2016. No requests were received to provide testimony or submit written statements for the record; therefore, OPIC's Annual Public Hearing scheduled for 1 p.m., March 9, 2015 has been cancelled.

Contact Person for Information: Information on the hearing cancellation may be obtained from Catherine F. I. Andrade at (202) 336-8768, or via email at Catherine.Andrade@opic.gov.

Dated: February 26, 2016.
Catherine F.I. Andrade,
OPIC Corporate Secretary.

[FR Doc. 2016-04657 Filed 2-29-16; 11:15 am]

BILLING CODE 3210-01-P